DEPARTMENT OF THE INTERIOR

National Park Service

Availability of the Final Environmental Impact Statement/General Management Plan for Niobrara National Scenic River, Nebraska

AGENCY: National Park Service, Interior.

SUMMARY: Pursuant to section 102(2)(C) of the National Environmental Policy Act of 1969 (42 U.S.C. 4332(c)), the National Park Service (NPS) announces the availability of the Final Environmental Impact Statement/General Management Plan (EIS/GMP) for Niobrara National Scenic River, Nebraska.

DATES: The Final EIS/GMP will remain available for public review for 30 days following the publishing of the notice of its availability in the Federal Register by the U.S. Environmental Protection Agency.

ADDRESSES: Requests for copies should be sent to the Superintendent, Niobrara National Scenic River, P.O. Box 591, O'Neill, Nebraska 68763. You may also view the document via the Internet through the NPS Planning, Environment, and Public Comment Web site (http://parkplanning.nps.gov); simply click on the link to Niobrara National Scenic River.

SUPPLEMENTARY INFORMATION: The NPS prepared a Draft EIS/GMP for the Niobrara National Scenic River, pursuant to section 102(c) of the National Environmental Policy Act of 1969. The draft was made available for public review for 90 days (mid-August through mid-October 2005) during which time the NPS distributed over 400 copies of the draft. The draft was also made available at the park offices, on the Internet, and at area libraries. Over 400 people attended the 32 public meetings, which included four open houses. Twenty-three written comment letters were received from Agencies, organizations, and the public. Comments from individuals and public agencies did not require the NPS to add other alternatives, alter existing alternatives, or make significant changes to the impact analysis of the effects of any alternative.

FOR FURTHER INFORMATION CONTACT: The Superintendent, Niobrara National Scenic River, P.O. Box 591, O'Neill, Nebraska 68763, telephone 402-336-3970.

Dated: August 15, 2006.
Ernest Quintana,
Director, Midwest Region.

Editorial Note: This document was received at the Office of the Federal Register on February 13, 2007.

[FR Doc. E7-2757 Filed 2-15-07; 8:45 am]

BILLING CODE 4312-BM-P